DEPARTMENT OF THE TREASURY

Internal Revenue Service

26 CFR Part 1

[REG-148568-04]

RIN 1545-BE72

Time for Filing Employment Tax Returns and Modifications to the Deposit Rules; Hearing Cancellation

AGENCY: Internal Revenue Service (IRS), Treasury.

ACTION: Cancellation of notice of public hearing on proposed rulemaking.

SUMMARY: This document provides notice of cancellation of a public hearing on proposed rulemaking relating to the annual filing of Federal employment tax deposits for employees in the Employers' Annual Federal Tax Program (Form 944) under sections 6302 and 31.6302-1 of the Internal Revenue Code.

DATES: The public hearing originally scheduled for Wednesday, April 26, 2006 at 10 a.m., is cancelled.

FOR FURTHER INFORMATION CONTACT: Treena Garrett of the Publications and Regulations Branch, Associate Chief Counsel (Procedure and Administration) at (202) 622-7180 (not a toll-free number).

SUPPLEMENTARY INFORMATION: The notice of proposed rulemaking by cross-reference to temporary regulations and notice of public hearing that appeared in the Federal Register on Tuesday, January 3, 2006 (71 FR 46), announced that a public hearing was scheduled for Wednesday, April 26, 2006, at 10 a.m. in the IRS Auditorium, Internal Revenue Service Building, 1111 Constitution Avenue, NW., Washington, DC. The subject of the public hearing is proposed regulations under sections 6302 and 31.6302-1 of the Internal Revenue Code. The public comment period for these proposed regulations expired on Wednesday, April 3, 2006. Outlines of oral comments were due on Wednesday, April 5, 2006.

The notice of proposed rulemaking and notice of public hearing, instructed those interested in testifying at the public hearing to submit outlines of the topics to be addressed. As of Wednesday, April 12, 2006, no one has requested to speak. Therefore, the public hearing scheduled for Wednesday, April 26, 2006, is cancelled.

Guy R. Traynor,
Chief, Publications and Regulations Branch, Legal Processing Division, Associate Chief Counsel (Procedure and Administration).

[FR Doc. E6-5814 Filed 4-18-06; 8:45 am]

BILLING CODE 4830-01-P